DEPARTMENT OF THE INTERIOR

Bureau of Land Management

[LLCOS05000.L13100000.DB0000.16X]

Notice of Availability of the Final Environmental Impact Statement for the Bull Mountain Unit Master Development Plan, Gunnison County, CO

AGENCY: Bureau of Land Management, Interior.

ACTION: Notice.

SUMMARY: In accordance with the National Environmental Policy Act of 1969 (NEPA), as amended, the Federal Land Policy and Management Act of 1976 (FLPMA), as amended, and the Mineral Leasing Act of 1920 (MLA), as amended, the Bureau of Land Management (BLM) prepared a Final Environmental Impact Statement (EIS) for the Bull Mountain Unit Master Development Plan (MDP) and by this notice is announcing its availability.

DATES: The BLM will not issue a final decision on the proposal for a minimum of 30 days after the date the Environmental Protection Agency publishes its Notice of Availability for the Bull Mountain MDP Final EIS in the Federal Register.

ADDRESSES: Copies of the Bull Mountain MDP Final EIS are available for public inspection at the Uncompahgre Field Office, 2465 South Townsend Ave., Montrose, CO 81401. Interested persons may also review the Final EIS on the project Web site at www.blm.gov/co/st/en/BLM_Information/nepa/ufo/Bull_Mountain_EIS.html.

FOR FURTHER INFORMATION CONTACT: Gina Jones, Southwest District NEPA Coordinator; telephone (970) 240-5300; Uncompahgre Field Office, 2465 South Townsend Ave., Montrose, CO 81401; email gmjones@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: SG Interests I, Ltd. (SGI) submitted a master development plan proposal, the Bull Mountain MDP, to the BLM's Uncompahgre Field Office for its Bull Mountain Unit. The MDP covers natural gas exploration and development within the Bull Mountain Unit. An MDP provides information common to multiple planned wells, including drilling plans, Surface Use Plans of Operations, and plans for future production in order to guide that development going forward. The MDP allows SGI to exercise their lease rights, while drilling in a manner that limits the impacts to natural resources in the area.

The Bull Mountain Unit MDP Final EIS analyzed the environmental impacts of the exploration and development of up to 146 natural gas wells, four water disposal wells, and associated infrastructure on Federal and private mineral leases within a federally unitized area known as the Bull Mountain Unit. SGI developed the unit after exploration wells demonstrated the potential for economically viable reserves of natural gas.

The Bull Mountain Unit is located within the Colorado River basin, approximately 30 miles northeast of the town of Paonia, and is bisected by State Highway 133. The boundaries of the unit encompass approximately 19,670 acres of Federal and private oil and gas mineral estate in Gunnison County, CO. The unit consists of 440 acres of federally owned surface lands and mineral estate administered by the BLM; 12,900 acres of split-estate lands, consisting of private surface and BLM-administered Federal mineral estate; and 6,330 acres of fee land, consisting of private surface and private mineral estate.

Work on the MDP began with a preliminary Environmental Assessment (EA) in 2008. In 2012, the BLM determined that an EIS was necessary, due to potential significant impacts to air quality in nearby Class I air sheds, water, socioeconomics, and wildlife. The BLM released the Draft EIS for a 45-day public comment period on January 16, 2015. The comment period was subsequently extended for an additional 45 days and closed on April 16, 2015. The BLM held one public meeting on February 10, 2015, and received 565 unique comment letters and 83 form letters. The BLM carefully reviewed and responded to those comments as part of the development of the Final EIS.

To comply with the Endangered Species Act, the BLM consulted with the U.S. Fish and Wildlife Service (USFWS) for two threatened species—greenback cutthroat trout and the Canada Lynx. The USFWS concurred with the BLM's finding that the proposed action “may affect, but is not likely to adversely affect” the greenback cutthroat trout and the Canada Lynx, or designated habitat for either species. To comply with Section 106 of the National Historic Preservation Act, the BLM consulted with the Colorado State Historic Preservation Office (SHPO) and interested Indian Tribes. The SHPO concurred with the BLM's finding of no effect on historic properties.

The Final EIS analyzes a reasonable range of alternatives, including a No Action Alternative (Alternative A), the proposed action (Alternative B), and a modified action (Alternative C). Based on the public comment received, additional internal reviews were completed by the BLM; updated information was provided by SGI; the BLM added clarifying text to the Final EIS; and the BLM developed an additional alternative, Alternative D, which was selected as the preferred alternative. Alternative D includes additional design features that specifically address impacts to air resources and air quality-related resource values, water resources, and wildlife.

Alternative D is also the environmentally preferred alternative, because it best achieves the following:

• Satisfies statutory requirements (true for all alternatives);

• Represents what the BLM believes to be the best combination of action alternatives analyzed in the EIS and best meets the purpose and need for action, as described in Chapter 1 of the Final EIS;

• Provides the best approach to address key resource and planning issues;

• Provides resource protection and a viable strategy for development of the mineral resources in the area;

• Responds to the public comments received; and

• Reflects input from cooperating agencies, stakeholders, the public, and BLM resource specialists.

Alternative D is within the scope of the Alternatives analyzed in the Draft EIS.

Authority: 40 CFR 1506.6, 40 CFR 1506.10.

Ruth Welch,
BLM Colorado State Director.

[FR Doc. 2016-16090 Filed 7-7-16; 8:45 am]

BILLING CODE 4310-JB-P